ENVIRONMENTAL PROTECTION AGENCY

[ER-FRL-9058-1]

Environmental Impact Statements; Notice of Availability

Responsible Agency: Office of Federal Activities, General Information 202-564-5632 or https://www.epa.gov/nepa.

Weekly receipt of Environmental Impact Statements (EIS)

Filed August 16, 2021 10 a.m. EST Through August 23, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210122, Final, HHS, WV, Acquisition of Site for Development of a Replacement Underground Safety Research Program Facility in Mace, West Virginia, Review Period Ends: 09/27/2021, Contact: Sam Tarr 770-488-8170.

EIS No. 20210123, Final, USACE, FL, Florida Keys Coastal Storm Risk Management Study Final Integrated Feasibility Report and Environmental Impact Statement, Review Period Ends: 09/27/2021, Contact: Kathy Perdue 757-201-7218.

EIS No. 20210124, Draft Supplement, FHWA, SC, Mark Clark Extension Supplemental Environmental Impact Statement and Draft Section 4(f) Evaluation, Comment Period Ends: 10/15/2021, Contact: J. Shane Belcher 803-253-3187.

EIS No. 20210125, Draft Supplement, NRC, VA, Generic Environmental Impact Statement for License Renewal of Nuclear Plants, NUREG-1437, Supplement 7, Second Renewal, North Anna Power Station, Comment Period Ends: 10/12/2021, Contact: Tam Tran 301-415-3617.

EIS No. 20210126, Draft, USFS, OR, Cliff Knox Project, Comment Period Ends: 10/12/2021, Contact: Kate Cueno 541-820-3890.

EIS No. 20210127, Draft, USACE, NJ, New Jersey Back Bays Draft Integrated Feasibility Report and Tier 1 Environmental Impact Statement, Comment Period Ends: 10/12/2021, Contact: Steven D. Allen 215-656-6559.

Dated: August 23, 2021.
Cindy S. Barger,
Director, NEPA Compliance Division, Office of Federal Activities.

[FR Doc. 2021-18478 Filed 8-26-21; 8:45 am]

BILLING CODE 6560-50-P